DEPARTMENT OF EDUCATION

Applications for New Awards; Technical Assistance and Dissemination To Improve Services and Results for Children With Disabilities and Demonstration and Training Programs—National Technical Assistance Center on Transition for Students and Youth With Disabilities

AGENCY: Office of Special Education and Rehabilitative Services, Department of Education.

ACTION: Notice.

SUMMARY: The Department of Education (Department) is issuing a notice inviting applications for new awards for fiscal year (FY) 2025 for National Technical Assistance Center on Transition for Students and Youth With Disabilities.

DATES:

Applications Available: January 15, 2025.

Deadline for Transmittal of Applications: March 17, 2025.

Deadline for Intergovernmental Review: May 15, 2025.

Pre-Application Webinar Information: No later than January 21, 2025, the Office of Special Education Programs (OSEP) and Rehabilitative Services (OSERS) will post details on pre-recorded informational webinars designed to provide technical assistance (TA) to interested applicants. Links to the webinars may be found at www.ed.gov/about/ed-offices/osers/osep/new-osep-grant-competitions.

ADDRESSES: For the addresses for obtaining and submitting an application, please refer to our Common Instructions for Applicants to Department of Education Discretionary Grant Programs, published in the Federal Register on December 23, 2024 (89 FR 104528) and available at https://www.federalregister.gov/documents/2024/12/23/2024-30488/common-instructions-for-applicants-to-department-of-education-discretionary-grant-programs.

FOR FURTHER INFORMATION CONTACT: Selete Avoke, U.S. Department of Education, 400 Maryland Avenue SW, Washington, DC 20202-5076. Telephone: (202) 245-7260. Email: Selete.Avoke@ed.gov or Tara Jordan, Department of Education, 400 Maryland Avenue SW, Washington, DC 20202-5076. Email: Tara.Jordan@ed.gov.

If you are deaf, hard of hearing, or have a speech disability and wish to access telecommunications relay services, please dial 7-1-1.

SUPPLEMENTARY INFORMATION:

Full Text of Announcement

I. Funding Opportunity Description

Purpose of Program: The purpose of the Technical Assistance and Dissemination to Improve Services and Results for Children with Disabilities program is to promote academic achievement and to improve results for children with disabilities by providing TA, supporting model demonstration projects, disseminating useful information, and implementing activities that are supported by scientifically based research. The purpose of the Demonstration and Training program is to provide competitive grants, including cooperative agreements, to, or enter into contracts with, eligible entities to expand and improve the provision of vocational rehabilitation (VR) and other services authorized under the Rehabilitation Act of 1973 (Rehabilitation Act), or to further the purposes and policies in sections 2(b) and (c) of the Rehabilitation Act by supporting activities that increase the provision, extent, availability, scope, and quality of rehabilitation services under the Rehabilitation Act, including related research and evaluation activities.

Assistance Listing Number (ALN): 84.326E.

OMB Control Number: 1820-0028.

Priorities: This competition includes two absolute priorities. In accordance with 34 CFR 75.105(b)(2)(v), Absolute Priority 1 is from allowable activities specified in the statute (see sections 663 and 681(d) of the Individuals with Disabilities Education Act (IDEA); 20 U.S.C. 1463 and 1481(d)). In accordance with 34 CFR 75.105(b)(2)(iv), Absolute Priority 2 is from section 303 of the Rehabilitation Act of 1973; 29 U.S.C. 773.

Absolute Priorities: For FY 2025 and any subsequent year in which we make awards from the list of unfunded applications from this competition, these priorities are absolute priorities. Under 34 CFR 75.105(c)(3), we consider only applications that meet both of these priorities.

Background:

While overall high school graduation rates for students with disabilities have increased in recent years, students with disabilities still lag behind their peers without disabilities by 16 percent (NCES, 2024a). A recent report indicates that in 2021, the dropout rate for students without a disability was 4.8 percent, while the rate for students with disabilities was more than double that at 10.1 percent (NCES, 2024b). High-quality secondary transition planning is critical to reducing the likelihood of dropout and increasing graduation rates for students with disabilities (National Technical Assistance Center on Transition: The Collaborative, 2022). To ensure effective secondary transition planning for, and active participation in decision making by, students with disabilities, members of the planning team should be well informed about the student's abilities, needs, and available services.

Under 34 CFR 300.320(b), an individualized education program (IEP) team develops a student's IEP and updates it annually. Any IEP in effect when the student turns 16, or younger, if determined appropriate by the IEP team, must include appropriate measurable postsecondary goals based upon age-appropriate transition assessments related to training, education, employment, and, where appropriate, independent living skills and the services (including courses of study) needed to assist the child in reaching those goals. For any IEP team meeting where transition services are to be discussed, the school/IEP team must invite the student and, with the prior consent of the parent or the student if the student has reached the age of majority, any participating agency representative.

While IDEA has requirements for transition services, local educational agencies (LEAs) face challenges in providing age-appropriate transition assessments, work experiences, and transition services, and obtaining the necessary collaborating partners to attend IEP meetings (Rowe et al., 2020). IDEA requires States to report data through their IDEA Part B State Performance Plan/Annual Performance Report (SPP/APR) on Indicator 13, which measures the percentage of youth ages 16 and above with IEPs that meet the transition requirements under IDEA. State SPP/APR data for FY 2022 for Indicator B13 showed that only 14 States reported 100 percent compliance.

VR agencies also struggled to implement transition services, including pre-employment transition services (pre-ETS). Under the Rehabilitation Act, VR agencies must reserve and expend not less than 15 percent of the Federal VR grant award for the provision of pre-ETS to all students and youth with disabilities in need of such services who are eligible or potentially eligible for services under the VR program. The Rehabilitation Services Administration's (RSA's) most recent monitoring reports identified 38 VR agencies that still need considerable support regarding the use of funds and strategies to implement pre-ETS. Those reports identified information sharing, coaching, strategic planning, navigating regulations, and strengthening partnerships with State educational agencies (SEAs), LEAs, and families to effectively deliver pre-ETS as areas of greatest need. Even in States that have a history of collaboration among SEAs, LEAs, and VR agencies, the depth of collaboration and implementation required to define responsibilities and align services is a continuing challenge.

According to the Case Service Report (RSA-911), 120,119 students and youth with disabilities were referred for VR services in program year 2023 (July 1, 2023—June 30, 2024). During this period, 78 percent were referred by educational institutions, while 22 percent were referred by other referral sources (e.g., self-referrals, family and friends, employers). As there were 2,414,034 students ages 14 to 21 who received services under IDEA in school year 2022-23, the number of referrals for VR services represents only a small fraction of those students and youth with disabilities who were potentially eligible or eligible for VR services.

Throughout 2023 and 2024, OSERS, as part of its transition initiative “Expect, Engage and Empower: Successful Transitions for All!”, gathered input from faculty, teachers, service providers, families, and individuals with disabilities across the country. The feedback consistently revealed that planning for a student's exit from high school when they reached the age of 16, or even 14 in some States, was far too late, especially for those with significant disabilities. In addition to starting earlier and maintaining high expectations for students and youth with disabilities, many constituents noted the need for ongoing TA to support the implementation of effective transition planning and services by education personnel and VR providers at State and local levels who may be inexperienced or otherwise face challenges due to shortages and turnover.

Consistent with IDEA and the Rehabilitation Act, OSEP and RSA will jointly fund a center to provide support to SEAs, LEAs, and VR agencies to improve postsecondary outcomes for students and youth with disabilities, including strengthening efforts to more deeply collaborate and provide seamless and robust transition services.

These priorities are:

Absolute Priority 1: National Technical Assistance Center on Transition for Students and Youth with Disabilities.

The purpose of this priority is to fund a cooperative agreement to establish and operate a National Technical Assistance Center on Transition for Students and Youth with Disabilities (Center). The Center will assist SEAs, LEAs, and VR agencies, including those located in rural areas, to implement practices and strategies that will promote collaboration among agency personnel to help ensure students and youth with disabilities graduate from high school with the knowledge, skills, and supports needed for credential attainment, postsecondary education, competitive integrated employment (CIE), and independent living.

The Center must achieve, at a minimum, the following expected outcomes:

(a) Increased SEA and VR agency capacity to collect valid and reliable data (i.e., absentee rates, SPP/APR indicators B-1 (graduation rates), B2 (dropout rates), B13 (compliance with IDEA IEP transition requirements), and B14 (post-school outcomes), and RSA-911 (Case Service Reports)) for decision making and program improvement at State and local levels, and improvements in their ability to share these data across agencies and with diverse constituents, including OSERS-funded parent centers, career and technical education (CTE) providers, and correctional education entities;

(b) Increased SEA and VR agency capacity to deliver professional development and TA to LEAs to reduce student absenteeism and drop out, and improve access to CTE, credential attainment, high school completion, postsecondary education, CIE, and independent living for students and youth with disabilities;

(c) Increased SEA, LEA, and VR agency capacity to deliver culturally and linguistically responsive transition services including pre-ETS and VR services for underserved students ¹ and youth with disabilities;

¹ For the purposes of this priority, “underserved student” means a student in one or more of the following subgroups: Living in poverty or served by schools with high concentrations of students living in poverty, a student of color, a member of a federally recognized Indian Tribe, an English learner, disconnected, technologically unconnected, a migrant, experiencing homelessness or housing insecurity, lesbian, gay, bisexual, transgender, queer or questioning, or intersex (LGBTQI+), in foster care, without documentation of immigration status, pregnant, parenting, or caregiving, impacted by the justice system including formerly incarcerated, the first in their family to attend postsecondary education, performing significantly below grade level, and military- or veteran-connected.

(d) Increased levels of collaboration between SEAs and VR agencies and their partners at the State and local levels, including LEAs, to implement transition services including pre-ETS and VR transition services;

(e) Improved SEA and VR agency methods and strategies for engaging students and youth with disabilities and their families at the local levels, including with LEAs, as collaborative partners to improve the delivery of transition services including pre-ETS and VR transition services; and

(f) Increased SEA, LEA, and VR agency capacity to implement career pathways including work-based learning experiences, internships, and pre-apprenticeship and apprenticeship activities for students and youth with disabilities.

In addition, to be considered for funding under this priority, applicants must meet the following requirements:

(a) Describe, in the narrative section of the application under “Significance,” how the proposed project will—

(1) Address current training and information needs, gaps, or weaknesses of SEAs, LEAs, and VR agencies, including those located in rural areas, in promoting collaboration among agency personnel to better serve students and youth with disabilities. To meet this requirement, the applicant must—

(i) Demonstrate knowledge of new and emerging issues and TA needs related to reducing student absenteeism and drop out, and improving access to CTE, credential attainment, high school completion, postsecondary education, CIE, and independent living for students and youth with disabilities;

(ii) Demonstrate knowledge of exemplary career pathway models, including work-based learning experiences, internships, and pre-apprenticeship and apprenticeship activities, that will assist SEAs, LEAs, and VR agencies in improving post-school outcomes for students and youth with disabilities;

(iii) Demonstrate knowledge of VR agencies' current efforts to improve engagement and promote collaboration with secondary schools, charter schools, youth programs, and other programs that provide services to students and youth with disabilities for the purpose of providing pre-ETS; and

(iv) Present applicable national and State data demonstrating the training needs of SEAs, LEAs, and VR agencies related to implementing exemplary practices and strategies and promoting collaboration to reduce student absenteeism and drop out, and improving access to CTE, credential attainment, high school completion, postsecondary education, CIE, and independent living for students and youth with disabilities;

(2) Demonstrate understanding of the need for and value of secondary transition planning, self-determination, and self-advocacy skills at an early age, and the types of support needed by elementary and secondary general and special education and related services personnel, CTE providers, and families to support secondary transition planning, self-determination, and self-advocacy skills; and

(3) Demonstrate knowledge of strategies for reaching and meeting the needs of underserved students.

(b) Describe, in the narrative section of the application under “Quality of project services,” how the proposed project will—

(1) Achieve its goals, objectives, and intended outcomes. To meet this requirement, the applicant must provide—

(i) Measurable intended project outcomes; and

(ii) In Appendix A, the logic model (as defined in 34 CFR 77.1) by which the proposed project will achieve its intended outcomes that depicts, at a minimum, the goals, activities, outputs, and intended outcomes of the proposed project;

(2) Use a conceptual framework (and provide a copy in Appendix A) to develop project plans and activities, describing any underlying concepts, assumptions, expectations, beliefs, or theories, as well as the presumed relationships or linkages among these variables, and any empirical support for this framework;

Note: The following website provides more information on logic models and conceptual frameworks: https://ies.ed.gov/ncee/rel/Products/Region/central/Resource/100644.

(3) Be based on current research and make use of evidence-based ² practices (EBPs). To meet this requirement, the applicant must describe—

² For the purposes of this priority, “evidence-based” means, at a minimum, evidence that demonstrates a rationale (as defined in 34 CFR 77.1), where a key project component included in the project's logic model is informed by research or evaluation findings that suggest the project component is likely to improve relevant outcomes.

(i) The current research on the most effective ways to prepare students and youth with disabilities to engage in transition services including pre-ETS and VR services, CTE, credential attainment, high school completion, postsecondary school, CIE, and independent living;

(ii) The current research about adult learning principles and implementation science that will inform the proposed TA; and

(iii) How the proposed project will incorporate current research and EBPs in the development and delivery of its products and services;

(4) Develop products and provide services that are of high quality and sufficient intensity and duration to achieve the intended outcomes of the proposed project. To address this requirement, the applicant must describe—

(i) How it proposes to further the knowledge base on the most effective ways to prepare students and youth with disabilities to engage in transition services including pre-ETS and VR services, CTE, credential attainment, high school completion, postsecondary school, CIE, and independent living;

(ii) The proposed approach to universal, general TA,³ which must describe—

³ “Universal, general TA” means TA and information provided to independent users through their own initiative, resulting in minimal interaction with TA project staff and including one-time, invited or offered conference presentations by TA project staff. This category of TA also includes information or products, such as newsletters, guidebooks, or research syntheses, downloaded from the TA project's website by independent users. Brief communications by TA project staff with recipients, either by telephone or email, are also considered universal, general TA.

(A) The intended recipients, including the type and number of recipients, that will receive the products and services;

(B) The products and services that the project proposes to make available;

(C) The development and maintenance of a high-quality website, with an easy-to-navigate design, that meets or exceeds government- or industry-recognized standards for accessibility; and

(D) The expected reach and impact of universal, general TA;

(iii) The proposed approach to targeted, specialized TA,⁴ which must describe—

⁴ “Targeted, specialized TA” means TA services based on needs common to multiple recipients and not extensively individualized. A relationship is established between the TA recipient and one or more TA project staff. This category of TA includes one-time, labor-intensive events, such as facilitating strategic planning or hosting regional or national conferences. It can also include episodic, less labor-intensive events that extend over a period of time, such as facilitating a series of conference calls on single or multiple topics that are designed around the needs of the recipients. Facilitating communities of practice can also be considered targeted, specialized TA.

(A) The intended recipients, including the type and number of recipients, that will receive the products and services;

(B) The products and services that the project proposes to make available;

(C) The proposed approach to measure the readiness of potential TA recipients to work with the project, including, at a minimum, an assessment of potential recipients' current infrastructure, available resources, and ability to build capacity at the local level; and

(D) The expected impact of targeted, specialized TA;

(iv) The proposed approach to intensive, sustained TA,⁵ which must describe—

⁵ “Intensive, sustained TA” means TA services often provided on-site and requiring a stable, ongoing relationship between the TA project staff and the TA recipient. “TA services” are defined as negotiated series of activities designed to reach a valued outcome. This category of TA should result in changes to policy, program, practice, or operations that support increased recipient capacity or improved outcomes at one or more systems levels.

(A) The intended recipients, including the type and number of recipients from a variety of settings and geographic distribution, that will receive the products and services designed to improve post-school outcomes;

(B) The proposed approach to measure the readiness of SEAs, LEAs, and VR agencies to work with the project, including their commitment to the initiative, alignment of the initiative to their needs, and ability to build capacity, and implement and sustain TA at the local, district, or State level; and

(C) The expected impact of intensive, sustained TA; and

(v) How the proposed project will intentionally engage families of children with disabilities and individuals with disabilities—including underserved families ⁶ and individuals—in the development, implementation, and evaluation of its products and services across all levels of TA;

⁶ For the purposes of this priority, “underserved families” refers to foster, kinship, migrant, technologically unconnected, and military- or veteran-connected families; and families of color, living in poverty, without documentation of immigration status, experiencing homelessness or housing insecurity, or impacted by the justice system, including the juvenile justice system. Underserved families also refers to families that include: members of a federally or State recognized Indian Tribe; English learners; adults who experience a disability; members who are lesbian, gay, bisexual, transgender, queer or questioning, or intersex (LGBTQI+); adults in need of improving their basic skills or with limited literacy; and disconnected adults.

(5) Develop products and implement services that maximize efficiency. To address this requirement, the applicant must describe—

(i) How the proposed project will use technology to achieve the intended project outcomes;

(ii) With whom the proposed project will collaborate, including the Parent Training and Information centers and Community Parent Resource centers funded under sections 671, 672, and 681(d) of IDEA and the regional Parent Information and Training (PTI) centers and a national PTI Center funded under section 303(c) of the Rehabilitation Act, as well as other Department-funded projects and those supported by other Federal agencies, including those funded by the Department of Health and Human Services' Administration on Community Living, and the Department of Labor's Office of Disability Employment Policy, as appropriate, and the intended outcomes of this collaboration; and

(iii) How the proposed project will use non-project resources, such as non-Federal funds and in-kind contributions, to achieve the intended project outcomes; and

(6) Systematically disseminate information, products, and services to varied intended audiences. To address this requirement the applicant must describe—

(i) The variety of dissemination strategies the project will use throughout the five years of the project to promote awareness and use of its products and services;

(ii) How the project will tailor dissemination strategies across all planned levels of TA to ensure that products and services reach intended recipients, and those recipients can access and use those products and services;

(iii) How the project's dissemination plan is connected to the proposed outcomes of the project; and

(iv) How the project will evaluate and correct all digital products and external communications to ensure they meet or exceed government or industry-recognized standards for accessibility.

(c) In the narrative section of the application under “Quality of the project evaluation or other evidence-building,” include an evaluation plan for the project as described in the following paragraphs. The evaluation plan must describe: measures of progress in implementation, including the criteria for determining the extent to which the project's products and services have met the goals for reaching its target population; measures of intended outcomes or results of the project's activities in order to evaluate those activities; and how the project will determine whether the goals or objectives of the proposed project, as described in its logic model, have been met.

In the evaluation plan, the applicant must—

(1) Designate, with the approval of the OSEP project officers, a project liaison with sufficient dedicated time, experience in evaluation, and knowledge of the project to work in collaboration with the Center to Improve Program and Project Performance (CIPP),⁷ the project director, and the OSEP project officer on the following tasks:

⁷ The major tasks of CIPP are to guide, coordinate, and oversee the design of formative evaluations for every large discretionary investment (i.e., those awarded $500,000 or more per year and required to participate in the 3+2 process) in OSEP's Technical Assistance and Dissemination; Personnel Development; Parent Training and Information Centers; and Educational Technology, Media, and Materials programs. The efforts of CIPP are expected to enhance individual project evaluation plans by providing expert and unbiased TA in designing the evaluations with due consideration of the project's budget. CIPP does not function as a third-party evaluator.

(i) Revise the logic model submitted in the application to provide for a more comprehensive measurement of implementation and outcomes and to reflect any changes or clarifications to the model discussed at the kick-off meeting;

(ii) Refine the evaluation design and instrumentation proposed in the application consistent with the revised logic model and using the most rigorous design suitable (e.g., prepare evaluation questions about significant program processes and outcomes; develop quantitative or qualitative data collections that permit both the collection of progress data, including fidelity of implementation, as appropriate, and the assessment of project outcomes; and identify analytic strategies); and

(iii) Revise the evaluation plan submitted in the application such that it clearly—

(A) Specifies the evaluation questions, measures, and associated instruments or sources for data appropriate to answer these questions, suggests analytic strategies for those data, provides a timeline for conducting the evaluation, and includes staff assignments for completing the evaluation activities;

(B) Delineates the data expected to be available by the end of the second project year for use during the project's evaluation (3+2 review) for continued funding described under the heading Fourth and Fifth Years of the Project; and

(C) Assists the project director and the OSEP project officer, with the assistance of CIPP, as needed, in specifying the project performance measures to be addressed in the project's annual performance report;

(2) Dedicate sufficient staff time and other resources during the first six months of the project to collaborate with CIPP staff, including regular meetings (e.g., weekly, biweekly, monthly) with CIPP and the OSEP and RSA project officers, to accomplish the tasks described in paragraph (C)(1) of this section; and

(3) Dedicate sufficient funds in each budget year to carry out the tasks described in paragraphs (C)(1) and (2) of this section and revise and implement the evaluation plan. Please note in your budget narrative the funds dedicated for this activity.

(d) Describe, in the narrative section of the application under “Adequacy of resources and quality of the project personnel,” how—

(1) The proposed project will encourage applications for employment from persons who are members of groups that have traditionally been underrepresented, as appropriate;

(2) The proposed key project personnel, consultants, and subcontractors have the qualifications and experience to carry out the proposed activities and achieve the project's intended outcomes;

(3) The applicant and any key partners have adequate resources to carry out the proposed activities;

(4) The proposed project will have processes, resources, and funds in place to provide equitable access for project staff, contractors, and partners, who require digital accessibility accommodations; ⁸ and

⁸ For information about digital accessibility and accessibility standards, visit https://sites.ed.gov/idea/topic-areas/#Accessibility-Creating-Content and https://www.ed.gov/laws-and-policy/civil-rights-laws/disability-discrimination/disability-discrimination-key-issues/disability-discrimination-technology-accessibility. Starting in either April 2026 or April 2027 (depending on the size of the school district), Title II of the Americans with Disabilities Act will require that public entities, including public schools, ensure that web content and mobile apps made available by the public entities are accessible in compliance with the Web Content Accessibility Guidelines (WCAG) 2.1, level AA. For New Rule on the Accessibility of Web Content and Mobile Apps Provided by State and Local Governments, visit https://www.ada.gov/resources/2024-03-08-web-rule/ (ada.gov).

(5) The proposed costs are reasonable in relation to the anticipated results and benefits, and funds will be spent in a way that increases their efficiency and cost-effectiveness.

(e) Describe, in the narrative section of the application under “Quality of the management plan,” how—

(1) The proposed management plan will ensure that the project's intended outcomes will be achieved on time and within budget. To address this requirement, the applicant must describe—

(i) Clearly defined responsibilities for key project personnel, consultants, and subcontractors, as applicable; and

(ii) Timelines and milestones for accomplishing the project tasks;

(2) Key project personnel and any consultants and subcontractors will be allocated to the project and how these allocations are appropriate and adequate to achieve the project's intended outcomes;

(3) The proposed management plan will ensure that the products and services provided are of high quality, relevant, and useful to recipients; and

(4) The proposed project will benefit from a diversity of perspectives, including those of families, educators, TA providers, researchers, and policy makers, among others, in its development and operation.

(f) Address the following application requirements. The applicant must—

(1) Include, in Appendix A, personnel-loading charts and timelines, as applicable, to illustrate the management plan described in the narrative;

(2) Include, in the budget, attendance at the following:

(i) A one and one-half day kick-off meeting in Washington, DC, after receipt of the award, and an annual one and one-half day planning meeting in Washington, DC, with the OSEP project officer, RSA project officer, and other relevant staff during each subsequent year of the project period.

Note: Within 30 days of receipt of the award, a post-award teleconference must be held between the OSEP project officer, the RSA project officer, and the grantee's project director or other authorized representative;

(ii) A two and one-half day project directors' conference in Washington, DC, during each year of the project period;

(iii) Two annual two-day trips to attend Department briefings, Department-sponsored conferences, and other meetings, as requested by OSEP; and

(iv) A one-day virtual 3+2 review meeting during the second year of the project period;

(3) Provide an assurance that the project will reallocate unused travel funds no later than the end of the third quarter if the kick-off or planning meetings are conducted virtually;

(4) Include, in the budget, a line item for an annual set-aside of 5 percent of the grant amount to support emerging needs that are consistent with the proposed project's intended outcomes, as those needs are identified in consultation with, and approved by, the OSEP project officer. With approval from the OSEP project officer, the project must reallocate any remaining funds from this annual set-aside no later than the end of the third quarter of each budget period;

(5) Describe how it will engage doctoral students or post-doctoral fellows, including those who are multilingual and racially, ethnically, and culturally diverse, and those with disabilities, in the project to increase the number of future leaders in the field who are knowledgeable about exemplary practices and strategies that will reduce student absenteeism and drop out, and improve access to CTE, credential attainment, high school completion, postsecondary education, CIE, and independent living for students and youth with disabilities;

(6) Describe how it will ensure that annual project progress toward meeting project goals is posted on the project website; and

(7) Include, in Appendix A, an assurance to assist OSEP with the transfer of pertinent resources and products and to maintain the continuity of services to States during the transition to a new award at the end of this award period, as appropriate.

Fourth and Fifth Years of the Project:

In deciding whether to continue funding the project for the fourth and fifth years, the Secretary will consider the requirements of 34 CFR 75.253(a), including—

(a) The recommendations of a 3+2 review team consisting of experts with knowledge and experience in IDEA transition services, VR services including pre-ETS, CTE participation, and underserved students and youth with disabilities. This review will be conducted during a one-day intensive meeting that will be held during the last half of the second year of the project period;

(b) The timeliness with which, and how well, the requirements of the negotiated cooperative agreement have been or are being met by the project; and

(c) The quality, relevance, and usefulness of the project's products and services and the extent to which the project's products and services are aligned with the project's objectives and likely to result in the project achieving its intended outcomes.

Under 34 CFR 75.253, the Secretary may reduce continuation awards or discontinue awards in any year of the project period for excessive carryover balances, a failure to make substantial progress, or a failure to maintain financial and administrative management systems that meet the requirements in 2 CFR 200.302, Financial management, and 200.303, Internal controls. The Department intends to closely monitor unobligated balances and substantial progress under this program and may reduce or discontinue funding accordingly.

Absolute Priority 2: National Technical Assistance Center on Transition for Students and Youth with Disabilities—Vocational Rehabilitation Demonstration and Training Program.

Projects that are designed to include initiatives focused on improving transition from education, including postsecondary education, to employment, particularly in competitive integrated employment, for youth who are individuals with significant disabilities and address the needs of underserved populations, unserved and underserved areas, individuals with significant disabilities, low-incidence disability population or individuals residing in federally designated empowerment zones and enterprise communities.

References:

National Center for Education Statistics (NCES). (2024a). High school graduation rates. Condition of education. U.S. Department of Education, Institute of Education Sciences. https://nces.ed.gov/programs/coe/indicator/coi.

National Center for Education Statistics (NCES). (2024b). Status dropout rates. Condition of education. U.S. Department of Education, Institute of Education Sciences. https://nces.ed.gov/programs/coe/indicator/coj.

National Technical Assistance Center on Transition: The Collaborative. (2022). Effective practices in secondary transition: Operational definitions. Authors: D. Rowe, C.Y. Alverson, S. Kwiatek, C.H. Fowler, J.N. Vicchio, J.G. Rousey, & V.L. Mazzotti. https://transitionta.org/wp-content/uploads/docs/Updated_EBP_Definitions_June_2022.pdf.

Office of Special Education and Rehabilitative Services. (2022). Rehabilitation Services Administration report for fiscal year 2017-2020: Report on Federal action under the Rehabilitation Act of 1973. https://rsa.ed.gov/sites/default/files/publications/ARC%20to%20Congress/RSA%20Report%20for%20FFY%202017_2020%20(May%2019%2C%202022).pdf.

Rowe, D.A., Carter, E., Gajjar, S., Maves, E.A., & Wall, J. C. (2020). Supporting strong transitions remotely: Considerations and complexities for rural communities during COVID-19. Rural Special Education Quarterly, 39(4), 220-232. https://doi.org/10.1177/8756870520958199.

Waiver of Proposed Rulemaking: Under the Administrative Procedure Act (APA) (5 U.S.C. 553) the Department generally offers interested parties the opportunity to comment on proposed priorities. Section 681(d) of IDEA, however, makes the public comment requirements of the APA inapplicable to Absolute Priority 1; Absolute Priority 2 is from the program statute.

Program Authority: 20 U.S.C. 1463 and 1481; 29 U.S.C. 709(c) and 773(b).

Note: Projects will be awarded and must be operated in a manner consistent with the nondiscrimination requirements contained in Federal civil rights laws.

Applicable Regulations: (a) The Education Department General Administrative Regulations in 34 CFR parts 75, 77, 79, 81, 82, 84, 86, 97, 98, and 99. (b) The Office of Management and Budget (OMB) Guidelines to Agencies on Governmentwide Debarment and Suspension (Nonprocurement) in 2 CFR part 180, as adopted and amended as regulations of the Department in 2 CFR part 3485. (c) The Guidance for Federal Financial Assistance in 2 CFR part 200, as adopted and amended as regulations of the Department in 2 CFR part 3474.

Note: As of October 1, 2024, grant applicants must follow the provisions stated in the OMB Guidance for Federal Financial Assistance (89 FR 30046, April 22, 2024) when preparing an application. For more information about these regulations please visit: www.cfo.gov/resources-coffa/uniform-guidance/.

Note: The regulations in 34 CFR part 79 apply to all applicants except federally recognized Indian Tribes.

Note: The regulations in 34 CFR part 86 apply to institutions of higher education (IHEs) only.

II. Award Information

Type of Award: Cooperative agreement.

Estimated Available Funds: $4,099,988.

The Administration has requested $39,345,000 for the Technical Assistance and Dissemination to Improve Services and Results for Children with Disabilities program for FY 2025, of which we intend to use an estimated $2,099,988 for this competition. The actual level of funding, if any, depends on final congressional action. However, we are inviting applications to allow enough time to complete the grant process if Congress appropriates funds for this program.

The Administration has requested $11,796,000 for the RSA Demonstration and Training program for FY 2025, of which we intend to use an estimated $2,000,000 for this competition. The actual level of funding, if any, depends on final congressional action. However, we are inviting applications to allow enough time to complete the grant process if Congress appropriates funds for this program.

Contingent upon the availability of funds and the quality of applications, we may make additional awards in FY 2026 from the list of unfunded applications from this competition.

Maximum Award: We will not make an award exceeding $4,099,998 for a single budget period of 12 months.

Estimated Number of Awards: 1.

Note: The Department is not bound by any estimates in this notice.

Project Period: Up to 60 months.

III. Eligibility Information

1. Eligible Applicants: SEAs; State lead agencies under Part C of the IDEA; LEAs, including public charter schools that are considered LEAs under State law; IHEs; other public agencies; private nonprofit organizations; freely associated States and outlying areas; Indian Tribes or Tribal organizations; and for-profit organizations.

2. a. Cost Sharing or Matching: This competition does not require cost sharing or matching.

b. Indirect Cost Rate Information: This program uses an unrestricted indirect cost rate. For more information regarding indirect costs, or to obtain a negotiated indirect cost rate, please see www.ed.gov/about/ed-offices/ofo#Indirect-Cost-Division.

c. Administrative Cost Limitation: This program does not include any program-specific limitation on administrative expenses. All administrative expenses must be reasonable and necessary and conform to Cost Principles described in 2 CFR part 200 subpart E of the Guidance for Federal Financial Assistance.

3. Subgrantees: Under 34 CFR 75.708(b) and (c), a grantee under this competition may award subgrants—to directly carry out project activities described in its application under Absolute Priority 1—to the following types of entities: IHEs, nonprofit organizations suitable to carry out the activities proposed in the application, and other public agencies. The grantee may award subgrants to entities it has identified in an approved application or that it selects through a competition under procedures established by the grantee, consistent with 34 CFR 75.708(b)(2).

A grantee may not make a subgrant to carry out project activities described in its application under Absolute Priority 2. However, a grantee may contract for supplies, equipment, and other services, in accordance with 2 CFR part 200 (Guidance for Federal Financial Assistance) as adopted at 2 CFR part 3474, consistent with 34 CFR 373.23(b).

4. Other General Requirements:

(a) Recipients of funding under this competition must make positive efforts to employ and advance in employment qualified individuals with disabilities (see section 606 of IDEA).

(b) Applicants for, and recipients of, funding must, with respect to the aspects of their proposed project relating to Absolute Priority 1, involve individuals with disabilities, or parents of individuals with disabilities ages birth through 26, in planning, implementing, and evaluating the project (see section 682(a)(1)(A) of IDEA).

(c) Recipients of funding must, with respect to the aspects of their proposed project relating to Absolute Priority 2, (1) ensure equal access and treatment for eligible project participants who are members of groups that have traditionally been underrepresented based on race, color, national origin, gender, age, or disabilities; (2) encourage applications for employment from persons who are members of groups that have traditionally been underrepresented based on race, color, national origin, gender, age, or disabilities; (3) advise individuals with disabilities who are applicants for or recipients of the services, or the applicants' representatives or the individuals' representatives, of the availability and purposes of the Client Assistance Program, including information on means of seeking assistance under that program; and (4) provide, through a careful appraisal and study, an assessment and evaluation of the project that indicates the significance or worth of processes, methodologies, and practices implemented by the project. (34 CFR 373.23(a)).

IV. Application and Submission Information

1. Application Submission Instructions: Applicants are required to follow the Common Instructions for Applicants to Department of Education Discretionary Grant Programs, published in the Federal Register on December 23, 2024 (89 FR 104528), and available at https://www.federalregister.gov/documents/2024/12/23/2024-30488/common-instructions-for-applicants-to-department-of-education-discretionary-grant-programs.

2. Intergovernmental Review: This competition is subject to Executive Order 12372 and the regulations in 34 CFR part 79. Information about Intergovernmental Review of Federal Programs under Executive Order 12372 is in the application package for this competition.

3. Funding Restrictions: We reference regulations outlining funding restrictions in the Applicable Regulations section of this notice.

4. Recommended Page Limit: The application narrative is where you, the applicant, address the selection criteria that reviewers use to evaluate your application. We recommend that you (1) limit the application narrative to no more than 70 pages and (2) use the following standards:

• A “page” is 8.5″ x 11″, on one side only, with 1″ margins at the top, bottom, and both sides.

• Double-space (no more than three lines per vertical inch) all text in the application narrative, including titles, headings, footnotes, quotations, reference citations, and captions, as well as all text in charts, tables, figures, graphs, and screen shots.

• Use a font that is 12 point or larger.

• Use one of the following fonts: Times New Roman, Courier, Courier New, or Arial.

The recommended page limit does not apply to the cover sheet; the budget section, including the narrative budget justification; the assurances and certifications; or the abstract (follow the guidance provided in the application package for completing the abstract), the table of contents, the list of priority requirements, the resumes, the reference list, the letters of support, or the appendices. However, the recommended page limit does apply to all of the application narrative, including all text in charts, tables, figures, graphs, and screen shots.

V. Application Review Information

1. Selection Criteria: The selection criteria for this competition are from 34 CFR 75.210 and are as follows:

(a) Significance (10 points).

(1) The Secretary considers the significance of the proposed project.

(2) In determining the significance of the proposed project, the Secretary considers the following factors:

(i) The significance of the problem or issue as it affects educational access and opportunity, including the underlying or related challenges for underserved populations.

(ii) The extent to which the proposed project is likely to build local, State, regional, or national capacity to provide, improve, sustain, or expand training or services that address the needs of underserved populations.

(iii) The importance or magnitude of the results or outcomes likely to be attained by the proposed project, especially contributions toward improving teaching practice and student learning and achievement.

(iv) The potential contribution of the proposed project to improve the provision of rehabilitative services, increase the number or quality of rehabilitation counselors, or develop and implement effective strategies for providing VR services to individuals with disabilities.

(b) Quality of project services (35 points).

(1) The Secretary considers the quality of the services to be provided by the proposed project.

(2) In determining the quality of the services to be provided by the proposed project, the Secretary considers the quality and sufficiency of strategies for ensuring equitable and adequate access and participation for project participants who experience barriers based on one or more of the following: economic disadvantage; gender; race; ethnicity; color; national origin; disability; age; language; migration; living in a rural location; experiencing homelessness or housing insecurity; involvement with the justice system; pregnancy, parenting, or caregiver status; and sexual orientation. This determination includes the steps developed and described in the form Equity For Students, Teachers, And Other Program Beneficiaries (OMB Control No. 1894-0005) (section 427 of the General Education Provisions Act (20 U.S.C. 1228a)).

(3) In addition, the Secretary considers the following factors:

(i) The extent to which the goals, objectives, and outcomes to be achieved by the proposed project are clearly specified, measurable, and ambitious yet achievable within the project period, and aligned with the purposes of the grant program.

(ii) The extent to which the services to be provided by the proposed project were determined with input from the community to be served to ensure that they are appropriate and responsive to the needs of the intended recipients or beneficiaries, including underserved populations, of those services.

(iii) The extent to which the services to be provided by the proposed project reflect up-to-date knowledge and an evidence-based project component.

(iv) The extent to which the training or professional development services to be provided by the proposed project are of sufficient quality, intensity, and duration to build recipient and project capacity in ways that lead to improvements in practice among the recipients of those services.

(v) The extent to which the services to be provided by the proposed project involve the use of efficient strategies, including the use of technology, as appropriate, and the leveraging of non-project resources.

(c) Quality of the project evaluation or other evidence-building (20 points).

(1) The Secretary considers the quality of the evaluation or other evidence-building of the proposed project.

(2) In determining the quality of the evaluation or other evidence-building, the Secretary considers the following factors:

(i) The extent to which the methods of evaluation or other evidence-building are thorough, feasible, relevant, and appropriate to the goals, objectives, and outcomes of the proposed project.

(ii) The extent to which the methods of evaluation or other evidence-building are appropriate to the context within which the project operates and the target population of the proposed project.

(iii) The extent to which the methods of evaluation or other evidence-building will provide performance feedback and provide formative, diagnostic, or interim data that is a periodic assessment of progress toward achieving intended outcomes.

(iv) The extent to which the methods of evaluation or other evidence-building include the use of objective performance measures that are clearly related to the intended outcomes of the project and will produce quality data that are quantitative and qualitative.

(d) Adequacy of resources and quality of the project personnel (15 points).

(1) The Secretary considers the adequacy of resources for the proposed project and the quality of the personnel who will carry out the proposed project.

(2) In determining the quality of project personnel, the Secretary considers the extent to which the applicant demonstrates that it has project personnel or a plan for hiring of personnel who are members of groups that have historically encountered barriers, or who have professional or personal experiences with barriers, based on one or more of the following: economic disadvantage; gender; race; ethnicity; color; national origin; disability; age; language; migration; living in a rural location; experiencing homelessness or housing insecurity; involvement with the justice system; pregnancy, parenting, or caregiver status; and sexual orientation.

(3) In addition, the Secretary considers the following factors:

(i) The extent to which the project director or principal investigator, when hired, has the qualifications required for the project, including formal training or work experience in fields related to the objectives of the project and experience in designing, managing, or implementing similar projects for the target population to be served by the project.

(ii) The extent to which the key personnel in the project, when hired, have the qualifications required for the proposed project, including formal training or work experience in fields related to the objectives of the project, and represent or have lived experiences of the target population.

(iii) The qualifications, including relevant training and experience, of project consultants or subcontractors.

(iv) The extent to which the evaluator has the qualifications, including the relevant training, experience, and independence, required to conduct an evaluation of the proposed project, including experience conducting evaluations of similar methodology as proposed and with evaluations for the proposed population and setting.

(v) The adequacy of support for the project, including facilities, equipment, supplies, and other resources, from the applicant organization or the lead applicant organization.

(vi) The relevance and demonstrated commitment of each partner in the proposed project to the implementation and success of the project.

(vii) The extent to which the budget is adequate to support the proposed project and the costs are reasonable in relation to the objectives, design, and potential significance of the proposed project.

(viii) The extent to which the budget is adequate to support the proposed project and the costs are reasonable in relation to the objectives, design, and potential significance of the proposed project.

(e) Quality of the management plan (20 points).

(1) The Secretary considers the quality of the management plan for the proposed project.

(2) In determining the quality of the management plan for the proposed project, the Secretary considers the following factors:

(i) The feasibility of the management plan to achieve project objectives and goals on time and within budget, including clearly defined responsibilities, timelines, and milestones for accomplishing project tasks.

(ii) The extent to which the time commitments of the project director and principal investigator and other key project personnel are appropriate and adequate to meet the objectives of the proposed project.

(iii) The adequacy of mechanisms for ensuring high-quality and accessible products and services from the proposed project for the target population.

(iv) How the applicant will ensure that a diversity of perspectives, including those from underserved populations, are brought to bear in the design, implementation, operation, evaluation, and improvement of the proposed project, including those of parents, educators, community-based organizations, civil rights organizations, the business community, a variety of disciplinary and professional fields, recipients or beneficiaries of services, or others, as appropriate.

2. Review and Selection Process: We remind potential applicants that in reviewing applications in any discretionary grant competition, the Secretary may consider, under 34 CFR 75.217(d)(3), the past performance of the applicant in carrying out a previous award, such as the applicant's use of funds, achievement of project objectives, and compliance with grant conditions. The Secretary may also consider whether the applicant failed to submit a timely performance report or submitted a report of unacceptable quality.

In addition, in making a competitive grant award, the Secretary requires various assurances, including those applicable to Federal civil rights laws that prohibit discrimination in programs or activities receiving Federal financial assistance from the Department (34 CFR 100.4, 104.5, 106.4, 108.8, and 110.23).

In the event there are two or more applications with the same final score, and there are insufficient funds to fully support each of these applications, the scores under selection criterion (b) Quality of project services will be used as a tiebreaker. If the scores remain tied, then the scores under selection criterion (d) Adequacy of resources and quality of the project personnel will be used to break the tie.

3. Additional Review and Selection Process Factors: In the past, the Department has had difficulty finding peer reviewers for certain competitions because so many individuals who are eligible to serve as peer reviewers have conflicts of interest. The standing panel requirements under section 682(b) of IDEA also have placed additional constraints on the availability of reviewers. Therefore, the Department has determined that for some discretionary grant competitions, applications may be separated into two or more groups and ranked and selected for funding within specific groups. This procedure will make it easier for the Department to find peer reviewers by ensuring that greater numbers of individuals who are eligible to serve as reviewers for any particular group of applicants will not have conflicts of interest. It also will increase the quality, independence, and fairness of the review process, while permitting panel members to review applications under discretionary grant competitions for which they also have submitted applications.

4. Risk Assessment and Specific Conditions: Consistent with 2 CFR 200.206, before awarding grants under this competition the Department conducts a review of the risks posed by applicants. Under 2 CFR 200.208, the Secretary may impose specific conditions and, under 2 CFR 3474.10, in appropriate circumstances, high-risk conditions on a grant if the applicant or grantee is not financially stable; has a history of unsatisfactory performance; has a financial or other management system that does not meet the standards in 2 CFR part 200, subpart D; has not fulfilled the conditions of a prior grant; or is otherwise not responsible.

5. Integrity and Performance System: If you are selected under this competition to receive an award that over the course of the project period may exceed the simplified acquisition threshold (currently $250,000), under 2 CFR 200.206(a)(2) we must make a judgment about your integrity, business ethics, and record of performance under Federal awards—that is, the risk posed by you as an applicant—before we make an award. In doing so, we must consider any information about you that is in the integrity and performance system (currently referred to as the Federal Awardee Performance and Integrity Information System (FAPIIS)), accessible through the System for Award Management. You may review and comment on any information about yourself that a Federal agency previously entered and that is currently in FAPIIS.

Please note that, if the total value of your currently active grants, cooperative agreements, and procurement contracts from the Federal Government exceeds $10,000,000, the reporting requirements in 2 CFR part 200, Appendix XII, require you to report certain integrity information to FAPIIS semiannually. Please review the requirements in 2 CFR part 200, Appendix XII, if this grant plus all the other Federal funds you receive exceed $10,000,000.

VI. Award Administration Information

1. Award Notices: If your application is successful, we notify your U.S. Representative and U.S. Senators and send you a Grant Award Notification (GAN), or we may send you an email containing a link to access an electronic version of your GAN. We also may notify you informally.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Open Licensing Requirements: Unless an exception applies, if you are awarded a grant under this competition, you will be required to openly license to the public grant deliverables created in whole, or in part, with Department grant funds. When the deliverable consists of modifications to pre-existing works, the license extends only to those modifications that can be separately identified and only to the extent that open licensing is permitted under the terms of any licenses or other legal restrictions on the use of pre-existing works. Additionally, a grantee that is awarded competitive grant funds must have a plan to disseminate these public grant deliverables. This dissemination plan can be developed and submitted after your application has been reviewed and selected for funding. For additional information on the open licensing requirements please refer to 2 CFR 3474.20.

4. Reporting: (a) If you apply for a grant under this competition, you must ensure that you have in place the necessary processes and systems to comply with the reporting requirements in 2 CFR part 170 should you receive funding under the competition. This does not apply if you have an exception under 2 CFR 170.110(b).

(b) At the end of your project period, you must submit a final performance report, including financial information, as directed by the Secretary. If you receive a multiyear award, you must submit an annual performance report that provides the most current performance and financial expenditure information as directed by the Secretary under 34 CFR 75.118. The Secretary may also require more frequent performance reports under 34 CFR 75.720(c). For specific requirements on reporting, please go to www.ed.gov/fund/grant/apply/appforms/appforms.html.

5. Performance Measures: For the purposes of Department reporting under 34 CFR 75.110, the Department has established a set of performance measures including long-term measures that are designed to yield information on various aspects of the effectiveness and quality of the Technical Assistance and Dissemination to Improve Services and Results for Children with Disabilities program. These measures are:

• Program Performance Measure #1: The percentage of Technical Assistance and Dissemination products and services deemed to be of high quality by an independent review panel of experts qualified to review the substantive content of the products and services.

• Program Performance Measure #2: The percentage of Technical Assistance and Dissemination products and services deemed by an independent review panel of qualified experts to be of high relevance to educational and early intervention policy or practice.

• Program Performance Measure #3: The percentage of all Technical Assistance and Dissemination products and services deemed by an independent review panel of qualified experts to be useful in improving educational or early intervention policy or practice.

• Program Performance Measure #4: The cost efficiency of the Technical Assistance and Dissemination Program includes the percentage of milestones achieved in the current annual performance report period and the percentage of funds spent during the current fiscal year.

• Long-term Program Performance Measure (applies to Absolute Priority 1 only): The percentage of States receiving Special Education Technical Assistance and Dissemination services regarding scientifically or evidence-based practices for infants, toddlers, children, and youth with disabilities that successfully promote the implementation of those practices in school districts and service agencies.

The measures apply to projects funded under this competition, and grantees are required to submit data on these measures as directed by OSEP and RSA.

Grantees will be required to report information on their project's performance in annual and final performance reports to the Department (34 CFR 75.590).

The Department will also closely monitor the extent to which the products and services provided by the project meet needs identified by stakeholders and may require the project to report on such alignment in its annual and final performance reports.

6. Continuation Awards: In making a continuation award under 34 CFR 75.253, the Secretary considers, among other things: whether a grantee has made substantial progress in achieving the goals and objectives of the project; whether the grantee has expended funds in a manner that is consistent with its approved application and budget; and, if the Secretary has established performance measurement requirements, whether the grantee has made substantial progress in achieving the performance targets in the grantee's approved application.

In making a continuation award, the Secretary also considers whether the grantee is operating in compliance with the assurances in its approved application, including those applicable to Federal civil rights laws that prohibit discrimination in programs or activities receiving Federal financial assistance from the Department (34 CFR 100.4, 104.5, 106.4, 108.8, and 110.23).

VII. Other Information

Accessible Format: On request to the program contact persons listed under FOR FURTHER INFORMATION CONTACT, individuals with disabilities can obtain this document and a copy of the application package in an accessible format. The Department will provide the requestor with an accessible format that may include Rich Text Format (RTF) or text format (txt), a thumb drive, an MP3 file, braille, large print, audiotape, compact disc, or other accessible format.

Electronic Access to This Document: The official version of this document is the document published in the Federal Register. You may access the official edition of the Federal Register and the Code of Federal Regulations at www.govinfo.gov. At this site you can view this document, as well as all other Department documents published in the Federal Register, in text or Portable Document Format (PDF). To use PDF you must have Adobe Acrobat Reader, which is available free at the site.

You may also access Department documents published in the Federal Register by using the article search feature at www.federalregister.gov. Specifically, through the advanced search feature at this site, you can limit your search to documents published by the Department.

Glenna Wright-Gallo,
Assistant Secretary for the Office of Special Education and Rehabilitative Services.

[FR Doc. 2025-00691 Filed 1-14-25; 8:45 am]

BILLING CODE 4000-01-P